DEPARTMENT OF HEALTH AND HUMAN SERVICES

Substance Abuse and Mental Health Services Administration

Center for Mental Health Services; Notice of Meeting

Pursuant to Public Law 92-463, notice is hereby given that the Substance Abuse and Mental Health Services Administration's (SAMHSA) Center for Mental Health Services (CMHS) National Advisory Council will meet August 26, 2014, 1:00 p.m. to 5:00 p.m., Eastern Daylight Time (EDT).

The meeting will include discussion and evaluation of grant applications reviewed by Initial Review Groups, and involve an examination of confidential financial and business information as well as personal information concerning the applicants. Therefore, the meeting will be closed to the public from 1:00 p.m. to 3:00 p.m. as determined by the SAMHSA Administrator, in accordance with Title 5 U.S.C. 552b(c)(4) and (6) and (c)(9)(B) and 5 U.S.C. App. 2, Section 10(d). The remainder of the meeting is open and will include discussion of SAMHSA's Common Data Platform and program developments.

Substantive program information, a summary of the meeting and a roster of Council members may be obtained as soon as possible after the meeting, by accessing the SAMHSA Committee Web site at https://nac.samhsa.gov/CMHScouncil/Index.aspx, or by contacting the CMHS National Advisory Council's Designated Federal Official, Ms. Deborah DeMasse-Snell (see contact information below).

Committee Name: SAMHSA'S Center for Mental Health Services National Advisory Council.

Date/Time/Type: August 26, 2014, 1:00 p.m. to 3:00 p.m. (EDT) CLOSED, August 26, 2014, 3:00 p.m. to 5:00 p.m. (EDT) OPEN.

Place: SAMHSA Building, 1 Choke Cherry Road, Conference Room 6-1060, Rockville, Maryland 20857.

Contact: Deborah DeMasse-Snell, M.A. (Than), Designated Federal Official, SAMHSA CMHS National Advisory Council, 1 Choke Cherry Road, Room 6-1084, Telephone: (240) 276-1861, Fax: (240) 276-1850, E-Mail: Deborah.DeMasse-Snell@samhsa.hhs.gov.

Cathy J. Friedman,
Public Health Analyst, SAMHSA.

[FR Doc. 2014-19182 Filed 8-13-14; 8:45 am]

BILLING CODE 4162-20-P